DEPARTMENT OF HOMELAND SECURITY

Coast Guard

[Docket No. USCG-2009-0973]

Random Drug Testing Rate for Covered Crewmembers for 2019

AGENCY: Coast Guard, DHS.

ACTION: Notice of minimum random drug testing rate.

SUMMARY: The Coast Guard has set the calendar year 2019 minimum random drug testing rate at 50 percent of covered crewmembers.

DATES: The minimum random drug testing rate is effective January 1, 2019 through December 31, 2019.

FOR FURTHER INFORMATION CONTACT: For questions about this notice, please contact Mr. Patrick Mannion, Drug and Alcohol Prevention and Investigation Program Manager, Office of Investigations and Casualty Analysis (CG-INV), U.S. Coast Guard Headquarters, DAPI@uscg.mil.

SUPPLEMENTARY INFORMATION: The Coast Guard requires marine employers to establish random drug testing programs for covered crewmembers in accordance with 46 CFR 16.230. Every marine employer is required by 46 CFR 16.500 to collect and maintain a record of drug testing data for each calendar year, and submit this data by 15 March of the following year to the Coast Guard in an annual MIS report.

Each year, the Coast Guard will publish a notice reporting the results of random drug testing for the previous calendar year's MIS data and the minimum annual percentage rate for random drug testing for the next calendar year. The purpose of setting a minimum random drug testing rate is to promote maritime safety by establishing an effective deterrent to drug misuse within the maritime workforce. Intoxicated operations poses a serious threat to life, property and the environment in the maritime commons. As such, the minimum random drug testing rate is intended to deter and detect illegal drug misuse in the maritime industry.

The Coast Guard announces that the minimum random drug testing rate for calendar year 2019 is 50 percent. The Coast Guard has increased the minimum random drug testing rate for 2019 as a result of MIS data for the most recent reporting year indicating that the positive rate is greater than one percent. 46 CFR part 16.230(f)(2) requires the Commandant to set the minimum random drug testing rate at 50 percent when the positivity rate for drug use is greater than 1 percent.

For 2019, the minimum random drug testing rate will be 50 percent of covered employees for the period of January 1, 2019 through December 31, 2019 in accordance with 46 CFR 16.230(e).

Dated: December 19, 2018.
Jennifer F. Williams,
Captain, U.S. Coast Guard, Director of Inspections and Compliance.

[FR Doc. 2018-28231 Filed 12-27-18; 8:45 am]

BILLING CODE 9110-04-P